DEPARTMENT OF COMMERCE

National Oceanic and Atmospheric Administration

[I.D. 061101D ]

Pacific Billfish Angler Survey

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before August 13, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument (s) and instructions should be directed to David Holts, Southwest Fisheries Science Center, 8604 La Jolla Shores Drive, P.O. Box 271, La Jolla, CA 92038-0271 (phone 858-546-7186).

SUPPLEMENTARY INFORMATION:

I. Abstract

The National Oceanic and Atmospheric Administrations’s Southwest Fishery Science Center operates a billfish resource and assessment program. As part of this program, billfish anglers in the Pacific and Indian Oceans are asked to respond to a voluntary annual post card survey to list the number of days spent fishing for billfish, where they fished, and what they caught. This information is used to help determine changes in areas of local abundance of Pacific billfish and is useful in the management of billfish resources.

II. Method of Collection

A paper form the size of a postcard is used.

III. Data

OMB Number: 0648-0020.

Form Number: NOAA Form 88-10.

Type of Review: Regular submission.

Affected Public: Individuals or households.

Estimated Number of Respondents: 1,500.

Estimated Time Per Response: 5 minutes.

Estimated Total Annual Burden Hours: 125.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 8, 2001.
Gwellnar Banks,
Management Analyst, Office of the Chief Information Officer.

[FR Doc. 01-15064 Filed 6-13-01; 8:45 am]

BILLING CODE 3510-22-S